SOCIAL SECURITY ADMINISTRATION

[Docket No. SSA-2024-0019]

Youth Transition Exploration Demonstration

AGENCY: Social Security Administration.

ACTION: Notice.

SUMMARY: The Social Security Administration (SSA) is announcing the Youth Transition Exploration Demonstration (YTED) project for the Supplemental Security Income (SSI) program under title XVI of the Social Security Act (Act). This project is a randomized controlled trial (RCT) of an employment intervention for youth with disabilities, who are transitioning into the adult workforce. SSA will modify the program rules that apply to income for certain project participants who receive SSI payments under title XVI of the Act. This modification will not apply to income for project participants who receive Old-Age, Survivors and Disability Insurance (OASDI) benefits under title II or receive concurrent benefits under title II and title XVI of the Act.

DATES: This project begins January 17, 2025 and ends by December 31, 2028.

FOR FURTHER INFORMATION CONTACT: Eunsong Park, Social Security Administration, Office of Retirement and Disability Policy, Youth Transition Exploration Demonstration, 6401 Security Boulevard, Baltimore, MD, 21235. Telephone: (410) 965-3570; Email: eunsong.park@ssa.gov.

SUPPLEMENTARY INFORMATION:

Youth Transition Exploration Demonstration

Under the YTED, youth with disabilities may receive enhanced counseling services and referrals to training programs and other employment services. We are conducting this project under section 1110 of the Social Security Act, which authorizes the Commissioner to conduct demonstration projects that are likely to assist in promoting the objectives or facilitate the administration of the title XVI program. This demonstration will test the effectiveness of providing enhanced counseling and referral services to youth with disabilities in achieving long-term employment outcomes.

Through SSA's Interventional Cooperative Agreement Program (ICAP), we acquired a cooperative agreement with Mathematica to implement and evaluate YTED. Mathematica is a research and data analytics consultancy driven by a mission to improve public well-being. Other partners for the YTED are the Pennsylvania Office of Vocational Rehabilitation (OVR) and University of Maryland's Center for Transition and Career Innovation.

For the evaluation, we will modify the program rules that apply to certain project participants and provide individual level SSA data to Mathematica that will compare outcomes between treatment group and control group participants regarding benefits, earnings, and application frequency. Mathematica and OVR will recruit participants, and OVR will provide enhanced counseling and referral services.

Potential participants are youth with disabilities ages 16 through 24 who are eligible for services from OVR, but do not have an open case with OVR. They must be residents of the state of Pennsylvania in the following counties:

• City of Philadelphia,

• Montgomery,

• Chester,

• Delaware, and

• Bucks.

Mathematica expects to recruit up to 700 individuals to participate in the YTED. Participation is voluntary and individual participants will sign an informed consent. Mathematica will randomly assign participants to a treatment group and a control group. The treatment group will receive enhanced counseling and referral services by a vocational rehabilitation counselor with specialized YTED training (VRC-YTED). The VRC-YTED will provide services, including connections to intensive training programs, submitting an application for training programs on behalf of the youth, coordinating placement with a program representative, and benefits counseling including information on waiving earned income counting and deeming. The control group will only be eligible for standard OVR services, such as case management, and will receive information on how to apply for the OVR services.

Under title XVI of the Act, we make SSI payments to persons who are aged, blind, or disabled, and who also have limited income and resources. We expect that some YTED participants may currently receive SSI payments. Additionally, we expect some YTED participants may apply for SSI once they learn about the program and seek eligibility for benefits per 20 CFR 416.202. All participants can withdraw from the project at any time. We will apply all usual program rules, including reporting requirements, to all applicable participants no later than December 31, 2028. Especially relevant, SSI recipients must report changes in their work and generally must report their wages monthly. We will also apply the alternate rules, as described below, to those participants in the treatment group who consent to sharing their data with us in the informed consent and who are SSI recipients (not OASDI or concurrent recipients) no later than December 31, 2028.

Provisions of the Act and Regulations We are Waiving For the YTED Treatment Group

We are waiving rules that offset SSI payments based on YTED participants' earnings. The following alternate program rules will apply to the YTED treatment group participants who are SSI recipients:

• The first waiver applies to earnings that directly affect participants' own benefits. SSA will not offset SSI payments for participants when the participants earn income. In other words, all earned income by participants is excluded from SSI income counting.

• The second waiver applies to any deeming that results from participants' earnings. For example, a participant's earnings will not count against the SSI benefit of their child who receives SSI or their spouse who receives SSI. However, if a person under the age of 18 is a participant, any income (earned or unearned) from their non-participant deemor parent(s) will still be subject to deeming. Additionally, if a participant is married, any income from the non-participant spouse will still be subject to deeming.

Applying these alternate rules involves waiving or altering certain provisions included in sections of:

• Statutory Waivers

Social Security Act 1611(a)(1)(A), (a)(2)(A), (a)(3)(A) as applicable to earned income; 1612(b)(1), (b)(3)(B), (b)(4); 1614(f)(1), (f)(2)(A) as applicable to earned income; and 1619(a)(1).

• Regulatory Waivers

20 CFR 416.202 (c); 416.1104; 416.1110; 416.1111; 416.1112; 416.1163 as applicable to earned income; and 416.1165 as applicable to earned income.

Authority for the Waivers Under YTED

Section 1110(b) of the Act authorizes us to waive any requirements, conditions, or limitations of title XVI necessary to carry out demonstration projects. Consistent with the requirements in section 1110(b)(2)(B) of the Act, participation in the YTED is voluntary and based on informed consent, and the voluntary agreement to participate may be withdrawn by the participant at any time.

Carolyn Colvin, the Acting Commissioner of the Social Security Administration, having reviewed and approved this document, is delegating the authority to electronically sign this document to Erik Hansen, who is a Federal Register Liaison for the Social Security Administration, for purposes of publication in the Federal Register.

Erik Hansen,
Associate Commissioner, Office of Legislation and Congressional Affairs, Legislative Development and Operations, Social Security Administration.

[FR Doc. 2025-01123 Filed 1-16-25; 8:45 am]

BILLING CODE 4191-02-P